DEPARTMENT OF AGRICULTURE

Submission for OMB Review; Comment Request

The Department of Agriculture has submitted the following information collection requirement(s) to OMB for review and approval under the Paperwork Reduction Act of 1995, Public Law 104-13. Comments are requested regarding whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by July 16, 2025 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food Safety and Inspection Service

Title: Importation and Transportation of Meat, Poultry and Egg Products.

OMB Control Number: 0583-0094.

Summary of Collection: The Food Safety and Inspection Service (FSIS) has been delegated the authority to exercise the functions of the Secretary as provided in the Federal Meat Inspection Act (FMIA) (21 U.S.C. 601 et seq.) and the Poultry Products Inspection Act (PPIA) (21 U.S.C. 451 et seq.), and the Egg Products Inspection Act (EPIA) (21 U.S.C. 1031 et seq.) These statutes mandate that FSIS protect the public by ensuring that meat, poultry, and egg products are safe, wholesome, unadulterated, and properly labeled and packaged. Meat and poultry products not marked with the mark of inspection and shipped from one official establishment to another for further processing must be transported under FSIS seal to prevent such unmarked product from` entering commerce. To track product shipped under seal, FSIS requires shipping establishments to complete a form that identifies the type, amount, and weight of the product.

Need and Use of the Information: FSIS will collect information using form 7350-1, Request and Notice of Shipment of Sealed Meat/Poultry. FSIS will collect the name, number, method of shipping, and destination of product, type, and description of product to be shipped, reason for shipping product, and a signature. Foreign countries that wish to export meat, poultry, and egg products to the United States must establish eligibility to do so by putting in place inspection systems that are “equivalent to” the U.S. inspection system (9 CFR 327.2 and 381.196) and by annually certifying that they continue to do so. Meat, poultry, and egg products intended for importation into the U.S. must be accompanied by an inspection certificate signed by an official of the foreign government responsible for the inspection and certification of the product.

Description of Respondents: Business or other for-profit.

Number of Respondents: 56.

Frequency of Responses: Recordkeeping; Reporting: On occasion.

Total Burden Hours: 3,679.

Food Safety and Inspection Service

Title: Registration Requirements.

OMB Control Number: 0583-0128.

Summary of Collection: The Food Safety and Inspection Service (FSIS) has been delegated the authority to exercise the functions of the Secretary as provided in the Federal Meat Inspection Act (FMIA) (21 U.S.C. 601 et seq.) and the Poultry Products Inspection Act (PPIA) (21 U.S. C. 451 et seq.). These statutes mandate that FSIS protect the public by ensuring that meat and poultry are safe, wholesome, unadulterated, and properly labeled and packaged. According to the regulations, (9 CFR 320.5 and 381.179), parties required to register with FSIS must do so by submitting form FSIS Form 5020-1, “Registration of Meat and Poultry Handlers.”

Need and Use of the Information: FSIS uses the information from form FSIS 5020-1 to maintain a database of the businesses. FSIS will collect the name, address of all locations at which they conduct the business that requires them to register, and all trade or business names under which they conduct the businesses. They must also inform FSIS when information on the form needs to be updated. If the information were not collected, it would reduce the effectiveness of the meat and poultry inspection program.

Description of Respondents: Business or other for-profit.

Number of Respondents: 1,200.

Frequency of Responses: Reporting: Other (Once).

Total Burden Hours: 300.

Food Safety and Inspection Service

Title: Imported Undenatured Inedible Product and Samples for Laboratory Examination, Research, Evaluation Testing or Trade Show Exhibition.

OMB Control Number: 0583-0161.

Summary of Collection: The Food Safety and Inspection Service (FSIS) has been delegated the authority to exercise the functions of the Secretary as provided in the Federal Meat Inspection Act (FMIA) (21 U.S.C. 601 et seq.), and the Egg Products Inspection Act (EPIA) (21 U.S.C. 1031 et seq.). These statutes mandate that FSIS protect the public by ensuring that meat and egg products are safe, wholesome, unadulterated, and properly labeled and packaged. FSIS uses the forms under this collection to identify and keep track of product not subject to FSIS import reinspection requirements. Foreign governments are to petition FSIS for approval to import undenatured inedible egg products into the United States.

Need and Use of the Information: FSIS will collect the information from firms using form FSIS 9540-4, “Permit Holder—Importation of Undenatured Inedible Products” for the undenatured inedible product that they are importing into the United States and form FSIS 9540-5, “Notification of Intent to Import Meat, Poultry, or Egg Products—Samples for Laboratory Examination, Research, Evaluative Testing or Trade Show Exhibition.” FSIS will use the information on the forms to keep track of the movement of imported undenatured inedible meat and egg products. If the information is not collected it would reduce the effectiveness of the meat and poultry products inspection program.

Description of Respondents: Business or other-for profit.

Number of Respondents: 160.

Frequency of Responses: Reporting: Semi-annually; On occasion.

Total Burden Hours: 671.

Levi S. Harrell,
Departmental Information Collection Clearance Officer.

[FR Doc. 2025-10914 Filed 6-13-25; 8:45 am]

BILLING CODE 3410-18-P